DEPARTMENT OF HEALTH AND HUMAN SERVICES

Centers for Disease Control and Prevention

[Program Announcement 01019]

Initiative To Educate State Legislatures About Priority Public Health Issues; Notice of Availability of Funds

A. Purpose

The Centers for Disease Control and Prevention (CDC) announces the availability of fiscal year (FY) 2001 funds for a cooperative agreement for the Initiative to Educate State Legislatures About Priority Public Health Issues.

The purposes of this cooperative agreement are to:

1. Develop educational initiatives and provide informational forums on public health issues for policymakers and;

2. Provide access to accurate, comprehensive, and timely information on public health issues to state policymakers for the development of effective public health policy at the state level.

Priority areas for these activities are prevention, early detection, and control of diseases and injury, the promotion of healthy behaviors, and the strengthening of state and local public health agencies.

This program addresses the “Healthy People 2010” focus areas: Arthritis, Osteoporosis and Chronic Back Conditions; Cancer; Diabetes; Disability and Secondary Conditions; Educational and Community-Based Programs; Environmental Health; Family Planning; Food Safety; Health Communication; Heart Disease and Stroke; HIV; Immunization and Infectious Diseases; Injury and Violence Prevention; Maternal, Infant and Child Health; Nutrition and Overweight; Occupational Safety and Health; Oral Health; Physical Activity and Fitness; Public Health Infrastructure; Respiratory Diseases; Sexually Transmitted Diseases; Substance Abuse; Tobacco Use; and Vision and Hearing. This program also addresses epilepsy, health issues affecting older Americans, and health disparities.

B. Eligible Applicants

Eligible applicants are national, non-profit, non-partisan or bi-partisan organizations that consist of requisite memberships representing legislatures from all 50 states, and provide tailored policy research, publications, consulting services, and educational and networking forums to state legislators, committees, and their staff. Therefore, eligible organizations should have a minimum of 5 years experience in assisting legislators and their staff from all 50 state legislatures and using a variety of information technologies and resources will be considered eligible applicants.

Limited competition is justified under this program announcement due to limited number of organizations having expertise interacting with all 50 state legislatures on existing and emerging public health issues.

Note: Public Law 104-65 states that an organization described in section 501(c)(4) of the Internal Revenue Code of 1986 that engages in lobbying activities is not eligible to receive Federal funds constituting an award, grant, cooperative agreement, contract, loan, or any other form.

C. Availability of Funds

Approximately $1,412,800 is available in FY 2001 to fund one award. It is expected that the award will begin on or about July 1, 2001, and will be for a 12-month budget period within a project period of up to three years. Funding estimates may change.

Continuation awards within an approved project period will be made on the basis of satisfactory progress as evidenced by required reports and the availability of funds. See Attachment A for funding sources and approximation amounts.

Direct Assistance

You may request Federal personnel in lieu of a portion of financial assistance.

D. Program Requirements

In conducting activities to achieve the purposes of this program, the recipient will be responsible for the activities under 1. (Recipient Activities), and CDC will be responsible for the activities listed under 2. (CDC Activities).

1. Recipient Activities

Core Activities

a. Track relevant state legislation and legislative activities related to public health. Provide quarterly updates to state policymakers on legislation and legislative actions on public health issues such as adolescent health; aging; arthritis, osteoporosis and chronic back conditions; cancer; diabetes; epilepsy; obesity; disability and secondary conditions; educational and community-based programs; environmental health issues, including childhood lead poisoning, safe drinking water, and pediatric asthma; heart disease and stroke; HIV infection; immunization and infectious diseases; maternal, infant and child health; injury and violence prevention; nutrition; oral health including water fluoridation; physical activity and fitness; sexually transmitted diseases; tobacco use; the public health infrastructure; and other topics. This activity shall not be intended to support or defeat particular state legislation.

b. Develop and coordinate activities with state, local health department contacts, and public health experts, to ensure that state legislatures are aware of public health issues, programs, and activities in their state or region.

c. Monitor and report the status of legislative trends in public health on a quarterly basis.

d. Enhance relationships with and consult with key organizations to inform state legislators about prevention and public health goals.

e. Respond to legislative requests about prevention and public health issues and provide public health experts with a compendium of contact inquiries on a quarterly basis.

f. Examine existing research in order to develop and distribute publications tailored to the information needs of legislators on disease control and prevention and public health in order to educate legislators about relevant policy and program issues.

g. Provide forums for state health officials, policy makers, and legislative staff to share ideas and learn about public health issues.

h. Create, update, publicize and maintain electronic services and other communication venues to inform legislators, other stakeholders, and the general public about emerging and current public health issues.

i. Ensure that funded activities are complimentary and do not duplicate each other. Ensure that activities related to public health and education funded by other organizations are also coordinated with the activities funded under this program announcement.

j. Conduct workshops on priority public health issues at national health conferences and through other venues.

k. Plan, conduct, and evaluate (using both process and outcome measures), an annual meeting in the most cost efficient location involving exchange between public health experts, legislators, and their staff. The purposes of this meeting are to:

(1) Provide legislators and their staff with information regarding priority public health issues;

(2) Give legislators an opportunity to share ideas and strategies with other legislators and public health experts about how to improve public health in their state.

l. Provide a forum and/or publication for newly-elected state legislators, so they can learn about priority public health issues.

m. Collaborate with national public health experts and organizations on public health law and other topics.

n. Develop and measure outcome indicators for all major activities funded under this program announcement.

Categorical Activities

Categorical funding is available for FY 2001 from the following sources: cancer; chronic disease; environmental health, HIV and STD; immunization; school health; tobacco; oral health; epilepsy; arthritis; heart disease and stroke; and the Racial and Ethnic Approaches to Community Health (REACH 2010) program to address health disparities. Attachment B delineates the letter of the activity below that corresponds to each funding source.

a. Enhance working relationships and consult with key organizations to inform state legislators about prevention and public health goals.

b. Create, update, publicize and maintain electronic services and other communication venues to inform legislators, other stakeholders, and the general public about emerging and current public health issues.

c. Examine existing research in order to develop and distribute publications tailored to the information needs of legislators on disease prevention and public health in order to educate legislators' about relevant policy and program issues.

d. Coordinate meetings and sessions so state legislators and legislative staff, state government employees, and other key figures can discuss policy issues related to public health.

e. Create and provide for ongoing tracking of relevant state legislation and legislative activities related to public health.

f. Examine existing research to identify the critical policy issues facing state legislatures and remain appraised of key public health issues and concerns as they relate to states and state legislatures.

g. Coordinate activities with state and local health department contacts, including public health experts, to ensure that organization members from each state legislature are aware of public health issues, programs, and activities in their state or region.

Activities h and i apply to school health funding ONLY:

h. Participate in meetings actively to ensure joint work groups on social marketing of positive messages for HIV prevention and school health; teen pregnancy prevention; and adolescent and/or school health goals are met.

i. Demonstrate the capability of updating the 50 state School Health Programs Finance Project's database including both the block grant funding and state legislative appropriations information.

Activity j applies to HIV and STD funding ONLY:

j. Develop, update, and disseminate, as needed, an educational video on HIV issues for newly elected state legislators and staff that can be easily accessed via the organization's website.

2. CDC Activities

a. Provide and periodically update programmatic information as it relates to core and categorical activities.

b. Provide consultation and guidance related to program planning, implementation, surveillance, and evaluation; assessment of program objectives; and dissemination of successful strategies, experiences, and evaluation results.

c. Collaborate in developing plans for and convening of national, regional and other meetings.

d. Provide technical assistance regarding the scope, development, and accomplishment of activities undertaken as part of this cooperative agreement.

e. Conduct periodic site visits in order to assess current activities, review progress, and discuss future plans.

E. Application Content

Use the information in the Program Requirements, Other Requirements, and Evaluation Criteria sections to develop the application content. Your application will be evaluated on the criteria listed, so it is important to follow them in laying out your program plan. The narrative should be no more than 30 double-spaced pages, printed on one side, with one-inch margins, and unreduced font. The narrative must describe how the applicant's activities in each part will complement one another, and how planned activities will be coordinated.

To request direct assistance Federal assignees, include:

1. The number of assignees requested;

2. A description of the position and proposed duties;

3. An organizational chart and the name of the intended supervisor;

4. Assignee access to computer equipment for electronic communication with CDC.

F. Submission and Deadline

Application

Submit the original and two copies of PHS 5161-1 (OMB Number 0937-0189). Forms are available at the following internet address: http://www.cdc.gov/od/pgo/forminfo.htm or in the application kit.

On or before March 28, 2001, submit the application to the Grants Management Specialist identified in the “Where to Obtain Information” section of this announcement.

Deadline: Applications shall be considered as meeting the deadline if they are either:

(a) Received on or before the deadline date; or

(b) Sent on or before the deadline date and received in time for submission to the independent review group.

(Applicants must request a legibly dated U.S. Postal service postmark or obtain a legibly dated receipt from a commercial carrier or U.S. Postal Service. Private metered postmarks shall not be acceptable as proof of timely mailing.)

Late Applications: Applications which do not meet the criteria in (a) or (b) above are considered late applications, will not be considered, and will be returned to the applicant.

G. Evaluation Criteria

Each application will be evaluated according to the following criteria by an independent review group appointed by CDC.

1. Capacity (25 Points)

Demonstrate and provide evidence of the capacity and ability of the organization and its constituency to address identified needs, and develop, implement, and evaluate program activities.

2. Plan (5 Points)

Describe the proposed plan that will be implemented and the need for such work.

3. Objectives (10 Points)

Provide short-term (one-year) and long-term (three-year) objectives for the proposed project that are specific, time-phased, measurable, realistic, and related to identified needs in the Plan section.

4. Methods (25 Points)

Submit a plan that describes methodologies for conducting activities outlined in the “Recipient Activities” in the Program Requirements section and explain how planned activities relate to the purpose of this Program Announcement. Describe the networking and information dissemination capacity of the organization to reach all 50 state legislatures effectively regarding public health issues. Establish a time line for the completion of each component or major activity and identify the party responsible.

5. Administration and Management (15 Points)

a. Provide job descriptions for existing and proposed positions.

b. Demonstrate that staff have the necessary background and qualifications for the proposed responsibilities; ensure for each position the education, experience, and licensure required; and include curriculum vitae (limit two pages per individual) for existing staff.

c. Provide an organizational chart that identifies lines of communication, accountability, reporting, authority, and describe the management and control systems.

6. Evaluation Plan (20 Points)

Describe how activities and their impact will be evaluated, and how progress will be monitored toward meeting project objectives. Include both process and outcome evaluations, specification of indicators of program success, methods of obtaining data, ways of reporting results, use of results for programmatic improvement, timing for evaluative techniques, and staff responsibility.

7. Budget and Justification (Not scored)

Provide a detailed budget for each funding source specified in Attachment A and line-item justification for all operating expenses that are consistent with proposed objectives and planned activities.

H. Other Requirements

Technical Reporting Requirements

Provide CDC with the original plus two copies of:

1. Semi-annual progress reports:

The progress reports must summarize the following for all forums and activities specified in this program announcement: (1) A comparison of actual accomplishments to the objectives established for the period; (2) the reasons for failure if established objectives were not met; (3) a description of how evaluation data will be used to strengthen future programmatic activities; (4) copies of reports and other publications funded under this program announcement; and (5) other pertinent information, when appropriate. The progress report will also include a summary of the project's progress in achieving performance measures, which will be developed and established during the first budget period.

2. Financial status report, no more than 90 days after the end of the budget period.

3. Final financial report and performance report, no more than 90 days after the end of the project period.

Send all reports to the Grants Management Specialist identified in the “Where to Obtain Additional Information” section of this announcement.

The following additional requirements are applicable to this program. For a complete description of each, see Attachment C in the application kit.

AR-9 Paperwork Reduction Act Requirements

AR-10 Smoke-Free Workplace Requirements

AR-11 Healthy People 2010

AR-12 Lobbying Restrictions

AR-15 Proof of Nonprofit Status

I. Authority and Catalog of Federal Domestic Assistance Number

This program is authorized under sections 301(a), 317(k)(2), and 1706 [42 U.S.C. 241(a), 247b(k)(2)] of the Public Health Service Act, as amended. The Catalog of Federal Domestic Assistance number is 93.283.

J. Where to Obtain Additional Information

This and other CDC announcements can be found on the CDC home page Internet address—http://www.cdc.gov. Click on “Funding” then “Grants and Cooperative Agreements.”

To obtain additional information, contact: Cynthia R. Collins, Grants Management Specialist, Grants Management Branch, Procurement and Grants Office, Centers for Disease Control and Prevention (CDC), Program announcement 01019, 2920 Brandywine Rd., Room 3000, Atlanta, GA 30341-4146, telephone: (770) 488-2757, email: coc9@cdc.gov

For program technical assistance, contact: Angel Roca, Deputy Director for Planning, Evaluation and Legislation, National Center for Chronic Disease Prevention and Health Promotion, Program Announcement 01019, Centers for Disease Control and Prevention (CDC), 4770 Buford Highway, NE MS K-40, Atlanta, GA 30341, telephone (770) 488-5706, e-mail: axr4@cdc.gov

Dated: January 26, 2001.
John L. Williams,
Director, Procurement and Grants Office, Centers for Disease Control and Prevention (CDC).

[FR Doc. 01-2740 Filed 1-31-01; 8:45 am]

BILLING CODE 4163-18-P